DEPARTMENT OF ENERGY

Federal Energy Regulatory Commission

Combined Notice of Filings #1

Take notice that the Commission received the following electric rate filings:

Docket Numbers: ER10-1782-004.

Applicants: Tampa Electric Company.

Description: Tampa Electric Company submits its Annual Compliance Report Regarding Operational Penalties for 2012.

Filed Date: 3/1/13.

Accession Number: 20130301-5102.

Comments Due: 5 p.m. ET 3/22/13.

Docket Numbers: ER12-2277-004.

Applicants: Midwest Independent Transmission System Operator, Inc.

Description: G631-2-3 2nd Deficiency Response to be effective 7/21/2012.

Filed Date: 2/28/13.

Accession Number: 20130228-5374.

Comments Due: 5 p.m. ET 3/21/13.

Docket Numbers: ER12-540-004; ER12-539-004; ER10-1414-003; ER11-1881-005; ER10-3166-003; ER12-2159-002; ER11-1890-005; ER11-1882-005; ER10-1821-004; ER10-1346-004; ER10-1406-004; ER10-1348-004; ER12-2205-003; ER11-1883-005 ER11-2534-004; ER11-1885-005; ER10-1416-004; ER11-1892-005; ER11-1886-005; ER11-4475-004; ER11-1893-005 ER11-1887-005; ER11-1889-005; ER11-1894-005.

Applicants: APDC, Inc., Atlantic Power Energy Services (US) LLC, Auburndale Power Partners, L.P., Burley Butte Wind Park, LLC, Cadillac Renewable Energy, LLC, Canadian Hills Wind, LLC, Camp Reed Wind Park, LLC, Golden Valley Wind Park, LLC, Goshen Phase II LLC, Frederickson Power LP, Lake Cogen, Ltd., Manchief Power Company LLC, Oregon Trail Wind Park, LLC, Meadow Creek Project Company LLC, Milner Dam Wind Park, LLC, Morris Cogeneration, LLC, Pasco Cogen, Ltd., Payne's Ferry Wind Park, LLC, Pilgrim Stage Station Wind Park, LLC, Rockland Wind Farm LLC, Salmon Falls Wind Park, LLC, Thousand Springs Wind Park, LLC, Tuana Gulch Wind Park, LLC, Yahoo Creek Wind Park, LLC.

Description: Supplement to January 28, 2013 Notice of Non-Material Change in Status of APDC, Inc., et al.

Filed Date: 2/28/13.

Accession Number: 20130228-5298.

Comments Due: 5 p.m. ET 3/14/13.

Docket Numbers: ER13-1007-000.

Applicants: Midwest Independent Transmission System Operator, Inc.

Description: 2013-02-28 SA 2507 Interstate-ITC E&P Agreement to be effective 3/1/2013.

Filed Date: 2/28/13.

Accession Number: 20130228-5376.

Comments Due: 5 p.m. ET 3/21/13.

Docket Numbers: ER13-1008-000.

Applicants: Midwest Independent Transmission System Operator, Inc.

Description: 02-28-2013 SA 2515 Ameren-Archer Daniels to be effective 3/1/2013.

Filed Date: 2/28/13.

Accession Number: 20130228-5377.

Comments Due: 5 p.m. ET 3/21/13.

Docket Numbers: ER13-1009-000.

Applicants: PacifiCorp.

Description: BPA Revised Service Agreements to be effective 5/1/2013.

Filed Date: 3/1/13.

Accession Number: 20130301-5001.

Comments Due: 5 p.m. ET 3/22/13.

Docket Numbers: ER13-1010-000.

Applicants: New England Power Pool Participants Committee, ISO New England Inc.

Description: New England Power Pool Participants Committee submits tariff filing per 35.13(a)(2)(iii: MR1 Revisions Regarding DR Asset Auditing to be effective 5/1/2013.

Filed Date: 3/1/13.

Accession Number: 20130301-5130.

Comments Due: 5 p.m. ET 3/22/13.

Docket Numbers: ER13-1011-000.

Applicants: Southwest Power Pool, Inc.

Description: Southwest Power Pool, Inc. submits tariff filing per 35.13(a)(2)(iii: 1636R9 Kansas Electric Power Cooperative, Inc. NITSA NOA to be effective 2/1/2013.

Filed Date: 3/1/13.

Accession Number: 20130301-5131.

Comments Due: 5 p.m. ET 3/22/13.

Docket Numbers: ER13-1012-000.

Applicants: Southwest Power Pool, Inc.

Description: Southwest Power Pool, Inc. submits tariff filing per 35.13(a)(2)(iii: 2198R5 Kansas Power Pool NITSA NOA to be effective 2/1/2013.

Filed Date: 3/1/13.

Accession Number: 20130301-5132.

Comments Due: 5 p.m. ET 3/22/13.

Docket Numbers: ER13-1013-000.

Applicants: Southwest Power Pool, Inc.

Description: Southwest Power Pool, Inc. submits tariff filing per 35.13(a)(2)(iii: 2379R1 Flat Ridge 2 Wind Energy Meter Agent Agreement to be effective 2/1/2013.

Filed Date: 3/1/13.

Accession Number: 20130301-5133.

Comments Due: 5 p.m. ET 3/22/13.

Docket Numbers: ER13-1014-000.

Applicants: Southwest Power Pool, Inc.

Description: Southwest Power Pool, Inc. submits tariff filing per 35.13(a)(2)(iii: 2519 Arkansas Electric Cooperative Corporation Meter Agent Agreement to be effective 2/1/2013.

Filed Date: 3/1/13.

Accession Number: 20130301-5134.

Comments Due: 5 p.m. ET 3/22/13.

Docket Numbers: ER13-1015-000.

Applicants: Eagle Creek Hydro Power, LLC.

Description: Eagle Creek Hydro Power, LLC submits tariff filing per 35.15: Notice of Cancellation of FERC Electric Tariff, Original Volume No. 1 to be effective 3/4/2013.

Filed Date: 3/1/13.

Accession Number: 20130301-517.

Comments Due: 5 p.m. ET 3/22/13.

Docket Numbers: ER13-1016-000.

Applicants: New England Power Pool Participants Committee.

Description: New England Power Pool Participants Committee submits tariff filing per 35.13(a)(2)(iii: Mar 2013 Membership Filing to be effective 3/1/2013.

Filed Date: 3/1/13.

Accession Number: 20130301-5196.

Comments Due: 5 p.m. ET 3/22/13.

Docket Numbers: ER13-1017-000.

Applicants: Consumers Energy Company, CMS Energy Resource Management Company.

Description: Application of the Consumers Energy Company and CMS Energy Resource Management Company for Waiver of Affiliate Restrictions Related to Consumers Energy Company's 2016 Planning Year Auction for Capacity.

Filed Date: 3/1/13.

Accession Number: 20130301-5197.

Comments Due: 5 p.m. ET 3/22/13.

Take notice that the Commission received the following electric reliability filings:

Docket Numbers: RR13-2-000.

Applicants: North American Electric Reliability Corporation,

Description: Petition of North American Electric Reliability Corporation for Approval of Revisions to the NERC Standard Processes Manual.

Filed Date: 2/28/13.

Accession Number: 20130228-5212.

Comments Due: 5 p.m. ET 3/21/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 01, 2013.
Nathaniel J. Davis, Sr.,
Deputy Secretary.

[FR Doc. 2013-05531 Filed 3-8-13; 8:45 am]

BILLING CODE 6717-01-P